DEPARTMENT OF COMMERCE

National Oceanic and Atmospheric Administration

Proposed Information Collection; Comment Request; Southeast Region Gulf of Mexico Electronic Logbook Program

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 27, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Jason Rueter, (727) 824-5350 or Jason.Rueter@noaa.gov.

SUPPLEMENTARY INFORMATION:

I. Abstract

The Magnuson-Stevens Fishery Conservation and Management Act (Magnuson-Stevens Act) authorizes the Gulf of Mexico Fishery Management Council (Council) to prepare and amend fishery management plans for any fishery in waters under its jurisdiction. National Marine Fisheries Service (NMFS) manages the shrimp fishery in the waters of the Gulf of Mexico under the Shrimp Fishery Management Plan (FMP). Regulations implementing the FMP appear at 50 CFR part 680: regulations at 50 CFR part 697 and subpart H of 50 CFR part 600 also pertain. The corresponding regulations established a mandatory electronic logbook (ELB) program, collecting location and fishing effort data, in addition to the standard logbooks completed by the fishermen (OMB Control No. 0648-0016).

There are currently approximately 2,500 permitted vessels that harvest shrimp from the Exclusive Economic Zone (EEZ), and the Council estimates that there are over 13,000 boats that fish in state waters. With such a large number of vessels of differing sizes, gears used, and fishing capabilities compounded by seasonal variability in abundance and price and the broad geographic distribution of the fleet, it is practically impossible to estimate the actual amount of fishing effort using current methods and data. The only practical way of improving the estimates of the amount and type of bycatch is by having a more precise means of estimating effort as the ELB provides.

The currently approved reporting requirements are being renewed without change.

II. Method of Collection

The electronic logbook autonomously collects effort data and is downloaded by NMFS personnel every 2-3 months. The electronic logbook will be removed from the vessel and downloaded at NMFS lab in Galveston, Texas. A new logbook will replace the removed logbook, a process taking less than one minute.

III. Data

OMB Control Number: 0648-0543.

Form Number: None.

Type of Review: Regular submission.

Affected Public: Business or other for-profit organizations.

Estimated Number of Respondents: 250.

Estimated Time per Response: ELB installation, 30 minutes; ELB removal 1 minute.

Estimated Total Annual Burden Hours: 150.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 19, 2008.
Glenna Mickelson,
Management Analyst, Office of the Chief Information Officer.

[FR Doc. E8-30704 Filed 12-24-08; 8:45 am]

BILLING CODE 3510-22-P